DEPARTMENT OF LABOR

Office of the Assistant Secretary for Veterans' Employment and Training (OASVET); Agency Information Collection Activities; Comment Request; VETS' Competitive Grant Programs Reporting

ACTION: Notice.

SUMMARY: The Department of Labor (DOL) is soliciting comments concerning a proposed approval for the authority to conduct the information collection request (ICR) titled, “VETS' Competitive Grant Programs Reporting Data Collection.” This comment request is part of continuing Departmental efforts to reduce paperwork and respondent burden in accordance with the Paperwork Reduction Act of 1995 (PRA), 44 U.S.C. 3501 et seq.

DATES: Consideration will be given to all written comments received by March 8, 2016.

ADDRESSES: A copy of this ICR with applicable supporting documentation, including a description of the likely respondents, proposed frequency of response, and estimated total burden, may be obtained for free by contacting Bradley Sickles by telephone at (202) 693-4741 (this is not a toll-free number) or by email at bradley.sickles.a@dol.gov. Submit written comments about, or requests for a copy of, this ICR by mail or courier to the U.S. Department of Labor, Veterans' Employment and Training Service, Room S1325, 200 Constitution Avenue NW., Washington, DC 20210; by email: bradley.sickles.a@dol.gov; or by fax (202-693-4755).

FOR FURTHER INFORMATION CONTACT: Bradley Sickles, by telephone at (202) 693-4741 (this is not a toll-free number) or by email at bradley.sickles.a@dol.gov.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data will be provided in the desired format, reporting burden (time and financial resources) is minimized, collection instruments are clearly understood, and the impact of collection requirements can be properly assessed.

The forms and formats contained in this information collection request apply to the following competitive grants (CG): Homeless Veterans' Reintegration Program (HVRP) and the Stand Down Grants Program (38 U.S.C. 2021); Homeless Female Veterans and Homeless Veterans with Families (HFVHVF) reintegration grant program (38 U.S.C. 2021A); Incarcerated Veterans' Transition Program (IVTP) (38 U.S.C. 2023); and the Veterans' Workforce Investment Program (VWIP), (29 U.S.C. 2913). This information collection is authorized by the provisions at 38 U.S.C. 2021(b); 38 U.S.C. 2021A(c); 29 U.S.C. 2913(b)(2); and section 200.328, title II, Code of Federal Regulations (2 CFR 200.328).

This information collection is subject to the PRA. A Federal agency generally cannot conduct or sponsor a collection of information, and the public is generally not required to respond to an information collection, unless the OMB approves it under the PRA and it displays a currently valid OMB Control Number. In addition, notwithstanding any other provisions of law, no person shall generally be subject to penalty for failing to comply with a collection of information that does not display a valid Control Number. See 5 CFR 1320.5(a) and 1320.6.

Interested parties are encouraged to provide comments to the contact shown in the addresses section. Comments must be written to receive consideration, and they will be summarized and included in the request for OMB approval of the final ICR. In order to help ensure appropriate consideration, comments should mention “VETS' CG Programs Reporting Data Collection.”

Submitted comments will also be a matter of public record for this ICR and posted on the Internet without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g. permitting electronic submission of responses.

Agency: DOL—VETS.

Type of Review: New.

Title of Collection: VETS' Competitive Grant Programs Reporting.

Forms:

1. VETS-700, Competitive Grants (CG) Planned Goals Chart;

2. VETS-701, CG Technical Performance Report (TPR);

3. VETS-702, CG Technical Performance Narrative (TPN);

4. VETS-703, Stand Down After Action Report (SDAAR)

OMB Control Number: 1293-0NEW.

Affected Public: State, Local, and Tribal Governments; Private Sector—businesses or other for-profits and not-for-profit institutions.

Estimated Number of Respondents: 325.

Frequency: Quarterly.

Total Estimated Annual Responses: 1,300.

Estimated Average Time per Response: 12 Hours.

Estimated Total Annual Burden Hours: 15,600 hours.

Total Estimated Annual Other Cost Burden: $0.

Authority: 44 U.S.C. 3506(c)(2)(A).

Dated: Signed in Washington, DC, this 4th day of January, 2016.
Teresa W. Gerton,
Deputy Assistant Secretary for Veterans' Employment and Training.

[FR Doc. 2016-00164 Filed 1-7-16; 8:45 am]

BILLING CODE 4510-79-P